SECURITIES AND EXCHANGE COMMISSION

[Release No. 34-46580; File No. SR-BSE-2002-14]

Self-Regulatory Organizations; Notice of Filing of Proposed Rule Change by the Boston Stock Exchange Relating to an Interpretation of its Execution Guarantee Rule

October 1, 2002.

Correction

In notice document 02-25612 beginning on page 62839 in the issue of Tuesday, October 8, 2002 make the following correction:

On page 62841, in the first column, in the first line, “[insert date 21 days from date of publication].” should read “October 29, 2002”.

[FR Doc. C2-25612 Filed 10-29-02; 8:45 am]

BILLING CODE 1505-01-D

SECURITIES AND EXCHANGE COMMISSION

[Release No. 34-46582; File No. SR-CBOE-2002-53]

Self-Regulatory Organizations; Notice of Filing and Immediate Effectiveness of Proposed Rule Change by the Chicago Board Options Exchange, Inc. Amending Its Rules To Provide Notice of Benefits of Membership and Attendant Obligations

October 1, 2002.

Correction

In notice document 02-25610 beginning on page 62841 in the issue of Tuesday, October 8, 2002 make the following correction:

On page 62842, in the third column, under the heading IV. Solicitation of Comments, in the second line from the bottom, “[insert date 21 days from date of publication].” should read “October 29, 2002.”.

[FR Doc. C2-25610 Filed 10-29-02; 8:45 am]

BILLING CODE 1505-01-D

DEPARTMENT OF TRANSPORTATION

Federal Aviation Administration

14 CFR Part 39

[Docket No. 2002-CE-08-AD; Amendment 39-12914; AD 2002-21-08]

RIN 2120-AA64

Airworthiness Directives; Pilatus Aircraft Ltd. Model PC-6 Airplanes

Correction

In rule document 02-26589 beginning on page 64520 in the issue of Monday, October 21, 2002 make the following correction:

§39.13 [Corrected]

On page 64522, in § 39.13, in the table, under the “Actions” column, in entry (2), in the third line, “modifying” should read “modify”.

[FR Doc. C2-26589 Filed 10-29-02; 8:45 am]

BILLING CODE 1505-01-D